DEPARTMENT OF ENERGY

Federal Energy Regulatory Commission

[Project No. 2413-110]

Georgia Power Company; Notice of Application for Amendment of License and Soliciting Comments, Motions To Intervene, and Protests

February 24, 2009.

Take notice that the following hydroelectric application has been filed with the Commission and is available for public inspection:

a. Application Type: Non-project use of project lands.

b. Project No.: 2413-110.

c. Date Filed: February 2, 2009.

d. Applicant: Georgia Power Company.

e. Name of Project: Wallace Hydroelectric Project.

f. Location: The proposal would be located on the Clarks Fork Creek, in Morgan County, Georgia and the project occupies U.S. lands within the Oconee National Forest.

g. Filed Pursuant to: Federal Power Act, 16 U.S.C. 791a-825r.

h. Applicant Contact: Herbie Johnson, Georgia Power Company, 125 Wallace Dam Road, NE., Eatonton, Georgia 31024; (706) 485-8704.

i. FERC Contact: Gina Krump, Telephone (202) 502-6704, and e-mail: Gina.Krump@ferc.gov.

j. Deadline for Filing Comments, Motions to Intervene, and Protest: March 24, 2009.

All documents (original and eight copies) should be filed with: Secretary, Federal Energy Regulatory Commission, 888 First Street, NE., Washington, DC 20426.

The Commission's Rules of Practice and Procedure require all interveners filing documents with the Commission to serve a copy of that document on each person whose name appears on the official service list for the project. Further, if an intervener files comments or documents with the Commission relating to the merits of an issue that may affect the responsibilities of a particular resource agency, they must also serve a copy of the document on that resource agency. A copy of any motion to intervene must also be served upon each representative of the Applicant specified in the particular application.

k. Description of Request: Georgia Power Company (GPC) is requesting to permit construction of two bridge crossings over the Clarks Fork Creek, a minor tributary stream of Lake Oconee. The proposal would consist of a foot/golf cart path crossing impacting .05 acres of project lands, and a roadway bridge impacting .48 acres of project lands. The bridges are in association with a planned residential development and golf course known as “Kingston on Lake Oconee” on privately owned lands outside of the project boundary. No dredging is proposed in association with the application. The licensee has consulted the U.S. Army Corps of Engineers, U.S. Fish and Wildlife Service, and state and local agencies on its application.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call (866) 208-3372 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTEST”, or “MOTION TO INTERVENE”, as applicable, and the Project Number of the particular application to which the filing refers.

p. Agency Comments: Federal, State, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Kimberly D. Bose,
Secretary.

[FR Doc. E9-4422 Filed 3-2-09; 8:45 am]

BILLING CODE 6717-01-P